NATIONAL AERONAUTICS AND SPACE ADMINISTRATION

[Notice 06-055]

Centennial Challenges 2007 Lunar Regolith Excavation Challenge

AGENCY: National Aeronautics and Space Administration (NASA).

ACTION: Notice of Centennial Challenges 2007 Lunar Regolith Excavation Challenge.

SUMMARY: This notice is issued in accordance with 42 U.S.C. 2451 (314)(d). The 2007 Lunar Regolith Excavation Challenge is now scheduled and teams that wish to compete may now register. The NASA Centennial Challenges Program is a program of prize contests to stimulate innovation and competition in space exploration and ongoing NASA mission areas. The 2007 Lunar Regolith Excavation Challenge is a prize contest designed to promote the development of new technologies to excavate lunar regolith. The 2007 Lunar Regolith Excavation Challenge is being administered for NASA by the California Space Education & Workforce Institute (CSEWI). Their Web site is: www.californiaspaceauthority.org/html/level-one/institute.html. The Centennial Challenges Web site is centennialchallenges.nasa.gov.

DATES: The 2007 Lunar Regolith Excavation Challenge will be held May 12, 2007.

ADDRESSES: The 2007 Lunar Regolith Excavation Challenge will be held at the Santa Maria Fair Park, Santa Maria, California. Questions and comments regarding the NASA Centennial Challenges Program should be addressed to Mr. Ken Davidian, Suite 2M14, Centennial Challenges Program, Exploration Systems Mission Directorate, NASA, 20546-0001.

FOR FURTHER INFORMATION CONTACT: Requests for additional information regarding the NASA Centennial Challenges Program should be directed to Mr. Ken Davidian, Suite 2M14, Centennial Challenges Program, Exploration Systems Mission Directorate, NASA, 20546-0001, (202) 358-0748, kdavidian@nasa.gov. To register for and get additional information regarding the 2007 Lunar Regolith Excavation Challenge, visit: www.californiaspaceauthority.org/regolith.

SUPPLEMENTARY INFORMATION:

I. Summary

The 2007 Lunar Regolith Excavation Challenge promotes the development of new technologies to excavate lunar regolith. Excavation is a necessary first step towards lunar resource utilization, and the unique physical properties of lunar regolith make excavation a difficult technical challenge. Advances in lunar regolith extraction have the potential to contribute significantly to the nation's space exploration operations. Teams competing in the 2007 Lunar Regolith Excavation Challenge will build autonomously operating systems to excavate lunar regolith and deliver it to a collector. This Challenge will be conducted in a “head-to-head” competition format. Teams will be challenged to excavate and deliver as much regolith as possible in 30 minutes.

II. Challenge Basis and Prize Amount

The 2007 Lunar Regolith Excavation Challenge total purse of $250,000 will go the winning teams excavating the most regolith above 150 kilograms.

III. Eligibility

The Centennial Challenges Program has established the following language in the Challenge Team Agreements governing eligibility. Challenge is the 2007 Lunar Regolith Excavation Challenge.

Team is defined as an individual, organization or corporation, or a group of individuals, organizations or corporations that register to participate in Challenge. Team is comprised of a Team Leader and Team Members.

Team Leader is defined as a single individual, organization, or corporation, which is the sole agent representing Team regarding its participation in Challenge. Team Leaders that are individuals must be U.S. citizens. Team Leaders that are organizations or corporations must be incorporated in the U.S. and majority-owned and controlled by U.S. citizens. Corporate or other organizational Team Leaders must appoint an individual who is an officer of the Corporation or organization to represent the Team Leader.

Team Members are defined as the participants on the Team that are not the Team Leader. If a Team consists of a single individual, then in this case the Team Member is also the Team Leader. Individuals and corporate entities that are other than U.S. citizens or entities may be Team Members, subject to written request to and approval by CSEWI.

All Team Members will apply to register for the Challenge through Team Leader and must receive written concurrence by CSEWI.

All Team Members must execute an “Adoption of Agreement” committing to all terms of this Agreement. By signing below, Team Leader represents that all Team Members have executed the Adoption of Agreement and that no one else will become a member of the Team or participate in the Challenge until such new Team Member has signed this Agreement. CSEWI may disqualify any Team if it discovers that a person is acting as a Team Member who has not signed this Agreement. Team Leader will provide CSEWI with a copy of the “Adoption of Agreement” signed by each Team Member.

Any U.S. Government organization or organization principally or substantially funded by the Federal Government, including Federally Funded Research and Development Centers, Government-owned, contractor operated (GOCO) facilities, and University Affiliated Research Centers, are ineligible to be a Team Leader or Team Member.

U.S. Government employees may not participate in the Challenge as Team Leader or Team Member.

Team Members may participate in Challenge on more than one Team.

IV. Rules

The rules for the 2007 Lunar Regolith Excavation Challenge can be found at: www.californiaspaceauthority.org/regolith.

Dated: August 8, 2006.
Scott J. Horowitz,
Associate Administrator, Exploration Systems Mission Directorate.

[FR Doc. E6-13499 Filed 8-15-06; 8:45 am]

BILLING CODE 7510-13-P